DEPARTMENT OF TRANSPORTATION

Office of the Secretary

[Docket No. OST-2004-18488]

Notice of Request for Renewal of a Previously Approved Collection

AGENCY: Office of the Secretary (OST), DOT.

ACTION: Notice.

SUMMARY: In accordance with the Paperwork Reduction Act of 1995 (44 U.S.C. 3501 et seq.), this notice announces that the Information Collection Request (ICR) abstracted below has been forwarded to the Office of Management and Budget (OMB) for renewal and comment. The ICR describes the nature of the information collection and its expected cost and burden. The Federal Register Notice with a 60-day comment period soliciting comments on the following collection of information was published on June 25, 2004 [FR Vol 69, No. 122, page 35703]. No comments were received.

DATES: Comments must be submitted on or before October 8, 2004. A comment to OMB is most effective if OMB receives it within 30 days of publication. You may fax comments to OMB at (202) 395-5806.

FOR FURTHER INFORMATION CONTACT: David Walterscheid, Realty Specialist, FHWA HQ Office of Real Estate Services—HEPR, 555 Zang Street, Room 400, Lakewood, Co. 80228-2583, (303) 969-5772, ext. 333, (303) 969-6727 (fax).

SUPPLEMENTARY INFORMATION: Office of the Secretary (OST).

Title: Relocation Assistance and Real Property Acquisition Regulations for Federal and Federally Assisted Programs.

OMB Number: 2105-0508.

Affected Public: State highway agencies, local government highway agencies, and airport sponsors receiving financial assistance for expenditures of Federal Funds on acquisition and relocation payments and required services to displaced persons.

Estimated Number of Respondents: 1,443 for file maintenance and 52 state highway agencies for statistical reports.

Annual Estimated Burden: 25,000 hours.

Abstract: This regulation implements amendments to 42 U.S.C. 4602 et. seq. concerning acquisition of real property and relocation for displaced persons for Federal and federally-assisted programs. It prohibits the provision of relocation assistance and payments to persons not legally in the United States (with certain exceptions). The information collected consists of a certification of residency status from affected persons to establish eligibility for relocation assistance and payments. Displacing agencies will require each person who is to be displaced by a Federal or federally-assisted project, as a condition of eligibility for relocation payments or advisory assistance, to certify that he or she is lawfully present in the United States.

Comments are invited on: (a) Whether the proposed collection of information is necessary for the proper performance of the functions of the Department, including whether the information will have practical utility; (b) the accuracy of the Department's estimate of the burden of the proposed information collection; (c) ways to enhance the quality, utility and clarity of the information collection; and (d) ways to minimize the burden of the collection of information on respondents, including the use of automated collection techniques or other forms of information technology.

All responses to this notice will be summarized and included in the request for OMB approval.

Issued in Washington, DC on August 31, 2004.
Michael A. Robinson,
Information Collection Clearance Officer.

[FR Doc. 04-20327 Filed 9-7-04; 8:45 am]

BILLING CODE 4910-62-P